DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on November 6, 2000 (65 FR 66578). We are required to publish this notice in the Federal Register by the Paperwork Reduction Act of 1995.

DATES: Please submit comments by February 26, 2001.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burdens; (3) ways for the FHWA to enhance the quality, usefulness, and clarity of the collected information; and (4) ways that the burdens could be minimized, including the use of electronic technology, without reducing the quality of the collected information.

FOR FURTHER INFORMATION CONTACT: Mr. Kenneth Epstein, 202-366-2157, Safety Core Business Unit, Federal Highway Administration, Department of Transportation, 400 7th Street, SW., Washington, DC 20590-0001. Office hours are from 7:30 a.m. to 4:30 p.m., Monday through Friday, except Federal holidays.

SUPPLEMENTARY INFORMATION: OMB Control Number: 2125-0025 (Expiration Date: March 31, 2001)

Title: Highway Safety Improvement Programs.

Abstract: Under sections 130(g) and 152(g) of Title 23, United States Code, each State is required to report annually to the Secretary of Transportation on the progress being made in implementing the Highway Safety Improvement Programs ( Highway-Rail Grade Crossings and Hazard Elimination) and on the effectiveness of these programs. This information provides FHWA with a means for monitoring the effectiveness of these programs. It may also be used by the Congress for determining funding levels for the Highway Safety Improvement Programs and for modifying these programs. States are also required under sections 130(d) and 152(a) of Title 23 to conduct and systematically maintain surveys to determine highway-rail grade crossings in need of improvements and to identify hazardous highway locations, sections, and elements. These surveys are the basis for establishing priorities for corrective measures, for scheduling improvements, and for evaluating the effectiveness of improvements. The States collect safety information by surveying highway-rail grade crossings and public roads for potential safety hazards. In addition, motor vehicle crash data, traffic volume data, and other highway inventory data are used by the States to identify hazards and determine which hazards would be the most cost-effective to improve.

Respondents: 52 State Transportation Departments, including the District of Columbia and Puerto Rico.

Frequency: Annually.

Estimated Total Annual Burden: 10,400 hours. It is estimated that each State, the District of Columbia and Puerto Rico spends 200 hours to provide this information to the FHWA.

Authority: The Paperwork Reduction Act of 1995; 44 U.S.C. Chapter 35, as amended; and 49 CFR 1.48.

Issued on: January 19, 2001.
James R. Kabel,
Chief, Management Programs and Analysis Division.

[FR Doc. 01-2200 Filed 1-24-01; 8:45 am]

BILLING CODE 4910-22-P